POSTAL SERVICE

39 CFR Part 20

International Mail Manual; Incorporation by Reference

AGENCY: Postal Service™.

ACTION: Final rule.

SUMMARY: The Postal Service announces the issuance of the Mailing Standards of the United States Postal Service, International Mail Manual (IMM®) dated January 21, 2024, and its incorporation by reference in the Code of Federal Regulations.

DATES: This rule is effective March 4, 2024. The incorporation by reference of certain material listed in this rule is approved by the Director of the Federal Register as of March 4, 2024.

FOR FURTHER INFORMATION CONTACT: Dale Kennedy, (202) 268-6592.

SUPPLEMENTARY INFORMATION: The International Mail Manual (IMM) provides our standards for all international mailing services and references for the applicable prices. It was issued on January 21, 2024, and was updated with Postal Bulletin revisions through December 28, 2023. It replaces all previous editions.

The IMM continues to enable the Postal Service to fulfill its long-standing mission of providing affordable, universal mail service. It continues to: (1) increase the user's ability to find information; (2) increase the user's confidence that he or she has found the information they need; and (3) reduce the need to consult multiple sources to locate necessary information. The provisions throughout this issue support the standards and mail preparation changes implemented since the version of July 10, 2022. The International Mail Manual is available to the public on the Postal Explorer® internet site at https://pe.usps.com.

List of Subjects in 39 CFR Part 20

Administrative practice and procedure, Foreign relations, Incorporation by reference.

In view of the considerations discussed above, the Postal Service hereby amends 39 CFR part 20 as follows:

PART 20—INTERNATIONAL POSTAL SERVICE

1. The authority citation for part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Amend § 20.1 by revising paragraphs (a)(3) and (b) to read as follows:

§ 20.1 Incorporation by reference; Mailing Standards of the United States Postal Service, International Mail Manual.

(a) * * *

(3) Inspection—NARA. You may view this material at the National Archives and Records Administration (NARA). For information on the availability of this material at NARA, visit www.archives.gov/federal-register/cfr/ibr-locations or email fr.inspection@nara.gov.

(b) The Director of the Federal Register approved the IMM, updated January 21, 2024, for incorporation by reference as of March 4, 2024.

3. Revise § 20.2 to read as follows:

§ 20.2 Effective date of the International Mail Manual.

The provisions of the International Mail Manual issued January 21, 2024 (incorporated by reference, see § 20.1), are applicable with respect to the international mail services of the Postal Service.

4. Amend § 20.4 by adding an entry for “IMM” at the end of table 1 to read as follows:

§ 20.4 Amendments to the International Mail Manual.

* * * * *

Table 1 to § 20.4—International Mail Manual
International mail manual | Date of issuance
* * * * *
IMM | January 21, 2024.

Sarah E. Sullivan,
Attorney, Ethics and Legal Compliance.

[FR Doc. 2024-04420 Filed 3-1-24; 8:45 am]

BILLING CODE 7710-12-P